DEPARTMENT OF HEALTH AND HUMAN SERVICES

[Document Identifier: OS-0937-0166; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: HHS 42 CFR part 50, subpart B; Sterilization of Persons in Federally Assisted Family Planning Projects—OMB No. 0937-0166- Revision-Office of Population Affairs—Office of Family Planning.

Abstract: This is a request for revision of a currently approved collection for the disclosure and record-keeping requirements codified at 42 CFR part 50, subpart B (“Sterilization of Persons in Federally Assisted Family Planning Projects”). The consent form solicits information to assure voluntary and informed consent to persons undergoing sterilization in programs of health services which are supported by Federal financial assistance administered by the Public Health Service (PHS). The form provides additional procedural protections to individuals undergoing sterilization. In order to obtain informed consent, the regulation requires that programs use either the form that is appended to the PHS regulation or another consent form approved by the Secretary.

In 2003, the sterilization consent form was revised to conform to OMB government-wide standards for the collection of race/ethnicity data and to incorporate the PRA burden statement as part of the consent form. The current form has been updated to conform to the changed name of a federal entitlement program. The program, Aid to Families with Dependent Children (AFDC), utilized by low-income families with dependent children who need federal assistance, has been replaced by a different program with similar aims, Temporary Assistance for Needy Families (TANF). Consequently, the reference to AFDC in the first paragraph has been replaced with a reference to TANF.

Estimated Annualized Burden Table
Type of respondent | Form name | Number of respondents | Number of responses per respondent | Average burden per response | Total hours
Citizens Seeking Sterilization | Information Disclosure for Sterilization Consent Form | 100,000 | 1 | 1 | 100,000
Citizens Seeking Sterilization | Record-keeping for Sterilization Consent Form | 100,000 | 1 | 15/60 | 25,000
Total |  |  |  |  | 125,000

Seleda Perryman,
Office of the Secretary, Paperwork Reduction Act Reports Clearance Officer.

[FR Doc. E9-25936 Filed 10-27-09; 8:45 am]

BILLING CODE 4150-34-P